NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 6, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of the Secretary (N1-16-09-1, 3 items, 3 temporary items). Web site records, including web management and operations files, logs, and web content that is not unique. Unique web content will be managed in accordance with previously approved schedules or schedules that will be submitted in the future.

2. Department of Agriculture, Agricultural Research Service (N1-310-09-4, 3 items, 3 temporary items). Agency web site records, including web management and operations files, logs, and web content that is not unique. Unique web content will be managed in accordance with previously approved schedules or schedules that will be submitted in the future.

3. Department of Agriculture, Economic Research Service (N1-354-09-2, 3 items, 3 temporary items). Agency web site records, including web management and operations files, logs, and web content that is not unique. Unique web content will be managed in accordance with previously approved schedules or schedules that will be submitted in the future.

4. Department of Agriculture, National Agricultural Statistical Service (N1-355-09-1, 3 items, 3 temporary items). Agency web site records, including web management and operations files, logs, and web content that is not unique. Unique web content will be managed in accordance with previously approved schedules or schedules that will be submitted in the future.

5. Department of Agriculture, Natural Resources Conservation Service (N1-114-10-1, 3 items, 3 temporary items). Agency web site records, including web management and operations files, logs, and web content that is not unique. Unique web content will be managed in accordance with previously approved schedules or schedules that will be submitted in the future.

6. Department of Agriculture, Research, Education, and Extension Service (N1-540-08-1, 12 items, 12 temporary items). Records relating to the 4-H program. Included are records relating to peer review of such matters as curricula, proposals, and workshops, and to authorizations to use the 4-H emblem.

7. Department of Agriculture, Risk Management Agency (N1-258-09-9, 1 item, 1 temporary item). Master files of an electronic information system relating to accounting matters.

8. Department of the Army, Agency-wide (N1-AU-10-22, 1 item, 1 temporary item). Master files of an electronic information system that includes unit promotion eligibility rosters for enlisted personnel in grades E-1 through E-3.

9. Department of Education, Federal Student Aid (N1-441-09-17, 2 items, 2 temporary items). Files relating to pilot projects that explore the use of new technologies and procedures aimed at improving student aid programs. Also included are master files of an electronic information system that contains data submitted by schools that relate to initiatives under which schools are granted exemptions from requirements governing student aid in order to improve services and procedures.

10. Department of Education, Office for Civil Rights (N1-441-09-14, 1 item, 1 temporary item). Records relating to requests for exemptions from requirements prohibiting gender discrimination submitted by sororities, fraternities, and religious groups at educational institutions.

11. Department of Housing and Urban Development, Federal National Mortgage Association (N1-207-08-1, 12 items, 10 temporary items). Correspondence relating to mortgages, budget files, agreements, vouchers and other records that date from the 1930s to 1971 and are stored at the Washington National Records Center. Proposed for permanent retention are correspondence files relating to insured mortgages and Audit Branch subject files. The proposed disposition instructions are limited to paper records.

12. Department of Housing and Urban Development, Office of Single Family Housing (N1-207-09-4, 1 item, 1 temporary item). Master files of an electronic information system that contains data concerning real estate settlements in connection with the Real Estate Settlement Procedures Act of 1974.

13. Department of Justice, Office of the Inspector General (N1-60-09-48, 2 items, 2 temporary items). Master files and inputs associated with an electronic information system that contains data concerning expenditures in connection with financial and performance audits.

14. Department of Labor, Occupational Safety and Health Administration (N1-100-08-1, 2 items, 1 temporary item). Background materials used to prepare the Secretary of Labor's annual report to the President on the occupational safety and health of Federal employees. The report itself along with the Secretary's transmittal are proposed for permanent retention.

15. Department of State, Bureau of Educational and Cultural Affairs (N1-59-09-29, 1 item, 1 temporary item). Master files associated with an electronic information system that contains statistical data concerning academic and cultural exchange programs. Key data from these records is included in another electronic information system that has been proposed for permanent retention.

16. Department of State, Bureau of Educational and Cultural Affairs (N1-59-09-31, 2 items, 2 temporary items). Master files and outputs associated with an electronic information system that contains data of agency academic exchange programs, including personal information on applicants, grantee institution, grant country, and start and end dates.

17. Department of State, Bureau of Educational and Cultural Affairs (N1-59-09-32, 2 items, 2 temporary items). Master files and outputs associated with an electronic information system that contains data of agency professional, youth, athletic, and cultural exchanges. Included is data concerning such matters as sponsoring organization, nature of the exchange, and personal information about the participants.

18. Department of State, Bureau of Educational and Cultural Affairs (N1-59-09-34, 2 items, 2 temporary items). Master files and outputs associated with an electronic information system that contains data on visa applications made in connection with exchange programs.

19. Department of State, Bureau of International Information Programs (N1-59-09-12, 10 items, 4 temporary items). Records of the Office of Publications including administrative records and abstracts of articles. Proposed for permanent retention are policy and program records, articles, periodicals, pamphlets, and other publications, and posters and other visual materials.

20. Department of the Treasury, Internal Revenue Service (N1-58-09-60, 2 items, 2 temporary items). Master files and system documentation associated with an electronic information system used to calculate Tax Year 2005 tax credits for taxpayers affected by Hurricane Katrina.

21. Department of the Treasury, Internal Revenue Service (N1-58-09-92, 2 items, 2 temporary items). Master files and system documentation associated with an electronic information system used to process business tax returns.

22. Federal Communications Commission, Public Safety and Homeland Security Bureau (N1-173-10-1, 2 items, 2 temporary items). Master files and outputs associated with an electronic information system used by communications providers to report on significant disruptions or outages.

23. Federal Communications Commission, Public Safety and Homeland Security Bureau (N1-173-10-2, 4 items, 4 temporary items). Master files and outputs associated with an electronic information system used by communications providers to provide information regarding the operational status of communications networks in the event of a disaster.

24. Nuclear Regulatory Commission, Office of the Chief Financial Officer (N1-431-10-1, 1 item, 1 temporary item). Master files of an electronic information system that is used to manage agency financial matters.

25. Office of the Director of National Intelligence, National Counterproliferation Center (N1-576-08-6, 20 items, 9 temporary items). Administrative records including such files as meeting planning records, weekly and bi-weekly reports, and non-substantive working papers. Proposed for permanent retention are such records as the files of the director and deputy director, records of working groups, subject files, and substantive working papers.

Dated: May 27, 2010.
Michael J. Kurtz,
Assistant Archivist for Records Services—Washington, DC.

[FR Doc. 2010-13477 Filed 6-3-10; 8:45 am]

BILLING CODE 7515-01-P